ELECTION ASSISTANCE COMMISSION

Sunshine Act Notice

AGENCY: United States Election Assistance Commission (EAC).

ACTION: Notice of Public Meeting Roundtable Discussion.

Date & Time: Wednesday, March 19, 2008, 9 p.m.-2 p.m. (MST).

Place: Hyatt Regency Denver, 650 15th Street, Denver, CO 80202, (303) 436-1234.

Agenda: The Commission will host a voting systems testing laboratory roundtable discussion regarding the Technical Guidelines Development Committee's (TGDC) recommended voluntary voting system guidelines (VVSG). The discussion will be focused upon the following topics: (1) Whether the recommended TGDC standards create appropriate functional standards that promote innovation; (2) How to evaluate innovative systems, for which there are no standards for purposes of certification; (3) The value and risks associated with Open Ended Vulnerability Testing; (4) The processes associated with testing to the VVSG and possible modifications; (5) The implications of the recommended usability benchmarks on the testing laboratories; (6) The cost implications of the proposed VVSG.

This Meeting Will Be Open To The Public.

Person To Contact For Information: Matthew Masterson, Telephone: (202) 566-3100.

Thomas R. Wilkey,
Executive Director, U.S. Election Assistance Commission.

[FR Doc. 08-985 Filed 3-4-08; 4:20 pm]

BILLING CODE 6820-KF-M